DEPARTMENT OF HOMELAND SECURITY

Coast Guard

33 CFR Part 100

[Docket No. USCG-2013-0327]

RIN 1625-AA00

Special Local Regulations; Harborfest Dragon Boat Race, South Haven, MI

AGENCY: Coast Guard, DHS.

ACTION: Notice of enforcement of regulation.

SUMMARY: The Coast Guard will enforce the special local regulation on the Black River in South Haven, Michigan for the Harborfest Dragonboat Race on June 18 and 19, 2016. This action is necessary and intended to ensure safety of life on navigable waters immediately prior to, during, and after the Dragonboat race. During the aforementioned period, the Coast Guard will enforce restrictions upon, and control movement of, vessels in the special regulated area.

DATES: The regulations in 33 CFR 100.903 will be enforced from 6 a.m. until 7 p.m. on each day of June 18 and 19, 2016.

FOR FURTHER INFORMATION CONTACT: If you have questions about this notice of enforcement, call or email CWO Mark Stevens, Prevention Department, Coast Guard Sector Lake Michigan, Milwaukee, WI at (414) 747-7188, email mark.l.stevens@uscg.mil.

SUPPLEMENTARY INFORMATION: The Coast Guard will enforce the special local regulation listed in 33 CFR 100.903 from 6 a.m. until 7 p.m. on each day of June 18 and 19, 2016. This special local regulation encompasses the waters of the Black River in South Haven, MI within the following coordinates starting at 42°24′13.6″ N., 086°16′41″ W.; then southeast 42°24′12.6″ N., 086°16′40″ W.; then northeast to 42°24′19.2″ N., 086°16′26.5″ W.; then northwest to 42°24′20.22″ N., 086°16′27.4″ W.; then back to point of origin (NAD 83). As specified in 33 CFR 100.903, no vessel may enter, transit through, or anchor within the regulated area without the permission of the Coast Guard Patrol Commander. Furthermore, the regulations in § 100.901 apply. Vessels desiring to transit the regulated area may do so only with prior approval of the Patrol Commander and when so directed by that officer. Vessels will be operated at a no wake speed to reduce the wake to a minimum, and in a manner which will not endanger participants in the event or any other craft. The rules contained in the above two sentences shall not apply to participants in the event or vessels of the patrol operating in the performance of their assigned duties. The Patrol Commander may direct the anchoring, mooring, or movement of any boat or vessel within the regatta area. A succession of sharp, short signals by whistle or horn from vessels patrolling the area under the direction of the U.S. Coast Guard Patrol Commander shall serve as a signal to stop. Vessels so signaled shall stop and shall comply with the orders of the Patrol Commander. Failure to do so may result in expulsion from the area, citation for failure to comply, or both.

This notice of enforcement is issued under authority of 33 CFR 165.903, Harborfest Dragon Boat Race; South Haven, MI, and 5 U.S.C. 552(a). In addition to this notice of enforcement in the Federal Register, the Coast Guard plans to provide the maritime community with advance notification for the enforcement of this regulation via Broadcast Notice to Mariners or Local Notice to Mariners. The Patrol Commander may be contacted via Channel 16, VHF-FM.

Dated: May 18, 2016.
A.B. Cocanour,
Captain, U.S. Coast Guard, Captain of the Port Lake Michigan.

[FR Doc. 2016-13783 Filed 6-9-16; 8:45 am]

BILLING CODE 9110-04-P